DEPARTMENT OF COMMERCE

Foreign-Trade Zones Board

[B-26-2022]

Foreign-Trade Zone (FTZ) 189—Kent/Ottawa/Muskegon Counties, Michigan; Authorization of Production Activity; GHSP, Inc. (Automotive Products); Grand Haven, Hart and Holland, Michigan

On June 15, 2022, GHSP, Inc., submitted a notification of proposed production activity to the FTZ Board for its facilities within Subzone 189F, in Grand Haven, Hart and Holland, Michigan.

The notification was processed in accordance with the regulations of the FTZ Board (15 CFR part 400), including notice in the Federal Register inviting public comment (87 FR 38057, June 27, 2022). On October 13, 2022, the applicant was notified of the FTZ Board's decision that no further review of the activity is warranted at this time. The production activity described in the notification was authorized, subject to the FTZ Act and the FTZ Board's regulations, including section 400.14.

Dated: October 13, 2022.
Andrew McGilvray,
Executive Secretary.

[FR Doc. 2022-22622 Filed 10-17-22; 8:45 am]

BILLING CODE 3510-DS-P